DEPARTMENT OF TRANSPORTATION

Federal Aviation Administration

Notice of Passenger Facility Charge (PFC) Approvals and Disapprovals

AGENCY: Federal Aviation Administration (FAA), DOT.

ACTION: Monthly Notice of PFC Approvals and Disapprovals. In August 2006, there were six applications approved. This notice also includes information on four applications, one approved in September 2005, one approved in January 2006, and two approved in July 2006, inadvertently left off the September 2005, January 2006, and July 2006 notices, respectively. Additionally, 20 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: County of Jefferson, Beaumont, Texas.

Application Number: 05-05-C-00-BPT.

Application Type: Impose and use a PFC.

PFC Level: $4.50.

Total PFC Revenue Approved in this Decision: $290,471.

Earliest Charge Effective Date: April 1, 2007.

Estimated Charge Expiration Date: November 1, 2008.

Class of Air Carriers Not Required to Collect PFC's: None.

Brief Description of Projects Approved for Collection and Use:

Airport drainage environmental study.

Airfield lighting.

Terminal renovations.

Perimeter security upgrades.

PFC application and administration fees.

Decision Date: September 12, 2005.

FOR FURTHER INFORMATION CONTACT: Ben Guttery, Texas Airports Development Office, (817) 222-5614.

Public Agency: Coos County Airport District, North Bend, Oregon.

Application Number: 06-07-C-00-OTH.

Application Type: Impose and use a PFC.

Total PFC Revenue Approved in this Decision: $320,000.

PFC Level: $4.50

Earliest Charge Effective Date: March 1, 2008.

Estimated Charge Expiration Date: July 1, 2010.

Class of Air Carriers not Required to Collect PFC's:

Non-scheduled air tax/commercial operators, utilizing aircraft having a seating capacity of less than 20 passengers.

Determination: Approved. Based on information contained in the public agency's application, the FAA has determined that the proposed class accounts for less than 1 percent of the total annual enplanements at North Bend Municipal Airport.

Brief Description of Projects Approved for Collection and Use:

Design new terminal building facilities.

PFC administration.

Decision Date: January 25, 2006.

FOR FURTHER INFORMATION CONTACT: Suzanne Lee-Pang, Seattle Airports District Office, (425) 227-2654.

Public Agency: City of Fort Smith, Arkansas.

Application Number: 06-03-C-00-FSM.

Application Type: Impose and use a PFC.

PFC Level: $3.00

Total PFC Revenue Approved in this Decision: $809,249.

Earliest Charge Effective Date: January 1, 2010.

Estimated Charge Expiration Date: August 1, 2013.

Class of Air Carriers not Required to Collect PFC's: None.

Brief Description of Projects Approved for Collection and Use:

Perimeter road construction.

Terminal apron.

Terminal security equipment.

Conditioned air at gates.

Decision Date: July 5, 2006.

FOR FURTHER INFORMATION CONTACT: Don Harris, Arkansas/Oklahoma Airports Development Office, (817) 222-5634.

Public Agency: City of Colorado Springs, Colorado.

Application Number: 06-10-C-00-COS.

Application Type: Impose and use a PFC.

Total PFC Revenue Approved in this Decision: $3,012,574.

PFC Level: $3.00.

Earliest Charge Effective Date: September 1, 2007.

Estimated Charge Expiration Date: January 1, 2009.

Class of Air Carriers not Required to Collect PFC's: None.

Brief Description of Projects Approved for Collection and Use: Canopies to cover public surface sidewalks for passenger and baggage movement to ground transportation areas.

Access road to long term parking lot.

Brief Description of Disapproved Project: Terminal circulation road.

Determination: The project does not meet the requirements of § 158.15(c). The FAA could not determine that the project was adequately justified based on the traffic volume information provided by the public agency. In addition, the project does not meet the requirements of § 158.15(b)(1) in accordance with paragraphs 620(a)(4) and 620(b)(1) of FAA Order 5100.38C, Airport Improvement Program Handbook (June 28, 2005).

Decision Date: July 28, 2006.

FOR FURTHER INFORMATION CONTACT: Chris Schaffer, Denver Airports District Office, (303) 342-1258.

Public Agency: County of Milwaukee, Milwaukee, Wisconsin.

Application Number: 06-13-C-00-MKE.

Application Type: Impose and use a PFC.

Total PFC Revenue Approved in this Decision: $46,806,855.

PFC Level: $3.00.

Earliest Charge Effective Date: May 1, 2018.

Estimated Charge Expiration Date: January 1, 2024.

Class of Air Carriers not Required to Collect PFC'S: Air taxi/commercial operators filing FAA Form 1800-31.

Determination: Approved. Based on information contained in the public agency's application, the FAA has determined that the proposed class accounts for less than 1 percent of the total annual enplanements at General Mitchell International Airport.

Brief Description of Projects Approved for Collection and Use:

Rehabilitate firehouse road.

Runway and taxiway shoulder maintenance.

Inline baggage security—construction.

Public restroom renovation—design.

Security system fiber optic replacement—design.

Interactive employee training for safety and security.

Ticketing drive road reconstruction.

E concourse stem.

Brief Description of Withdrawn Project: Southside trituration room.

Date of withdrawal: July 25, 2006.

Decision Date: August 2, 2006.

FOR FURTHER INFORMATION CONTACT: Nancy Nistler, Minneapolis Airports District Office, (612) 713-4353.

Public Agency: Kansas City Department of Aviation, Kansas City, Missouri.

Application Number: 05-05-C-00-MCI.

Application Type: Impose and use a PFC.

PFC Level: $4.50.

Total PFC Revenue Approved in this Decision: $56,963,842.

Earliest Charge Effective Date: November 1, 2014.

Estimated Charge Expiration Date: February 1, 2017.

Class of Air Carriers not Required to Collect PFC'S: Air taxi/commercial operators filing FAA Form 1800-31.

Determination: Approved. Based on information contained in the public agency's application, the FAA has determined that the proposed class accounts for less than 1 percent of the total annual enplanements at Kansas City International Airport (MCI).

Brief Description of Projects Approved for Collection at MCI and Use at MCI at a $4.50 PFC Level:

Two new aircraft rescue and firefighting vehicles.

New aircraft rescue and firefighting facility.

Inline baggage screening.

Brief Description of Project Approved for Collection at MCI for Future Use at Charles B. Wheeler Downtown Airport (MKC) at a $4.50 PFC Level: Fuel farm relocation.

Brief Description of Projects Approved for Collection at MCI and Use at MCI at a $3.00 PFC Level:

Extend taxiways B and D.

Rehabilitate taxiways M and L.

Update airport master plan and Part 150 study update.

Rehabilitate taxiway D.

Airfield lighting rehabilitation.

Terminal improvements—holdrooms.

Upgrade glycol collection system.

Brief Description of Project Approved for Collection at MCI for Future Use at MCI at a $3.00 PFC Level: Airfield snow removal equipment building.

Brief Description of Projects Approved for Collection at MCI and Use at MKC at a $3.00 PFC Level:

Reconstruct runway 1/19.

Perimeter fencing replacement.

Brief Description of Withdrawn Projects:

New airfield sand and deicer storage building.

Triturator and garbage facility.

Date of withdrawal: August 8, 2006.

Decision Date: August 8, 2006.

FOR FURTHER INFORMATION CONTACT: Mark Schenkelberg, Central Region Airports Division, (816) 329-2638.

Public Agency: City of Houston, Texas.

Application Number: 06-01-C-00-HOU.

Application Type: Impose and use a PFC.

PFC Level: $3.00.

Total PFC Revenue Approved in This Decision: $163,415,047.

Earliest Charge Effective Date: November 1, 2006.

Estimated Charge Expiration Date: October 1, 2017.

Classes of Air Carriers not Required to Collect PFC's:

(1) Part 135 air taxi/commercial operators filing FAA Form 1800-31; and (2) commuters or small certificated air carriers filing Department of Transportation Form T100.

Determination: Approved. Based on information contained in the public agency's application, the FAA has determined that each proposed class accounts for less than 1 percent of the total annual enplanements at William P. Hobby Airport.

Brief Description of Projects Approved for Collection and Use:

Rehabilitate runways 12L/30R and 17/35.

Rehabilitation and modifications to taxiway system.

Expand taxiway electrical system.

Airport drainage and storm water improvements.

Acquire runway 17 protection zone.

Airfield lighting and control.

Central terminal expansion.

Conduct master plan.

Central concourse equipment.

Apron reconstruction.

Taxiway and taxilane reconstruction.

Overlay runway 12R/30L.

Perimeter fencing and obstruction removal.

Access controls and telecommunications for airport operating area.

Conduct environmental impact statement.

Land acquisition for runway 4 protection zone.

Conduct drainage/storm water plan.

PFC consulting, administration, and auditing.

Decision Date: August 10, 2006.

FOR FURTHER INFORMATION CONTACT: Ben Guttery, Texas Airports Development Office, (817) 222-5614.

Public Agency: City of Chicago Department of Aviation, Chicago, Illinois.

Application Number: 06-17-C-00-ORD.

Application Type: Impose and use a PFC.

PFC Level: $4.50.

Total PFC Revenue Approved in this Decision: $73,198,000.

Earliest Charge Effective Date: November 1, 2015.

Estimated Charge Expiration Date: June 1, 2016.

Class of Air Carriers not Required to Collect PFC'S: Air taxi.

Determination: Approved. Based on information contained in the public agency's application, the FAA has determined that the proposed class accounts for less than 1 percent of the total annual enplanements at Chicago O'Hare International Airport.

Brief Description of Projects Approved for Collection and Use at a $4.50 PFC Level:

2005/2006 residential home insulation.

2005/2006 school insulation.

Brief Description of Project Approved for Collection and Use at a $3.00 PFC Level: Permanent noise monitoring system upgrade.

Decision Date: August 17, 2006.

FOR FURTHER INFORMATION CONTACT: Chad Oliver, Chicago Airports District Office, (847) 294-7199.

Public Agency: County of Kalamazoo, Kalamazoo, Michigan.

Application Number: 06-05-C-00-AZO.

Application Type: Impose and use a PFC.

PFC Level: $4.50.

Total PFC Revenue Approved in this Decision: $1,500,000.

Earliest Charge Effective Date: October 1, 2006.

Estimated Charge Expiration Date: April 1, 2008.

Class of Air Carriers not Required to Collect PFC'S: Non-scheduled Part 135 and air taxi operators.

Determination: Approved. Based on information contained in the public agency's application, the FAA has determined that the proposed class accounts for less than 1 percent of the total annual enplanements at Kalamazoo/Battle Creek International Airport.

Brief Description of Projects Approved for Collection and Use:

Terminal renovation, expansion, new construction, and redesign.

Decision Date: August 22, 2006

FOR FURTHER INFORMATION CONTACT: Jason Watt, Detroit Airports District Office, (734) 229-2906.

Public Agency: County of Marquette, Gwinn, Michigan.

Application Number: 06-08-C-00-SAW.

Application Type: Impose and use a PFC.

PFC Level: $4.50.

Total PFC Revenue Approved in this Decision: $150,711.

Earliest Charge Effective Date: October 1, 2006.

Estimated Charge Expiration Date: May 1, 2008.

Class of Air Carriers not Required to Collect PFC's: None

Brief Description of Projects Approved for Collection and Use:

Runway safety area improvements (phase I—design).

Snow removal equipment (sweeper and blower).

Pavement and marking (airfield markings).

Terminal access.

Aircraft rescue and firefighting/snow removal equipment facility.

Runway lighting (electrical conduit repairs—emergency).

Runway safety area improvements (construction).

Airport master plan study.

Materials (sand) storage building (phase I—design).

Aircraft rescue and firefighting vehicle (draft specifications only).

Runway slab replacement (design).

Aircraft rescue and firefighting vehicle—phase II.

Sand storage building (phase II—construction).

Snow removal equipment.

Runway slab replacement (phase II—construction).

Runway 1 slab replacement (south of Bravo taxiway).

Airfield lighting improvements.

Snow removal equipment.

Rehabilitation of pavements.

Runway 1 slab replacement south (construction) and north of Bravo taxiway (design only).

Airfield lighting improvements (phase II—construction).

Brief Description of Disapproved Projects:

Passenger terminal expansion (design).

Taxiway Bravo reconstruction (design).

Interactive employee training system.

Terminal building expansion (phase II—construction).

Runway 19 instrument landing system.

Taxiway Bravo reconstruction (construction).

Snow removal equipment acquisition.

Runway 1/19 threshold area rehabilitation.

Pavement rehabilitation (rubber removal and painting).

Runway 1 pavement replacement north of taxiway Bravo (construction).

Determination: These projects do not meet the requirements of § 158.33(a)(1). The information provided indicates that the projects would not have been implemented within 2 years of approval.

Fiscal Year 2005 project engineering and administration.

Determination: Engineering and project administration costs must be assigned to specific development projects.

Decision Date: August 14, 2005.

FOR FURTHER INFORMATION CONTACT: Jason Watt, Detroit Airports District Office, (734) 229-2906.

Amendments to PFC Approvals
Amendment No. city, state | Amendment approved date | Original approved net PFC revenue | Amended approved net PFC revenue | Original estimated charge exp. date | Amended estimated charge exp. date
98-02-C-02-GUC, Gunnison, CO | 03/15/06 | $183,754 | $179,074 | 04/01/01 | 03/01/01
03-04-C-01-PIH, Pocatello, ID | 04/05/06 | 456,500 | 497,218 | 10/01/07 | 04/01/08
94-01-C-08-CVG, Covington, KY | 04/22/06 | 32,872,000 | 35,936,000 | 05/01/96 | 04/01/96
02-03-C-02-PWM, Portland, ME | 05/18/06 | 18,234,688 | 19,425,419 | 03/01/13 | 12/01/13
01-09-C-01-BNA, Nashville, TN | 05/31/06 | 26,005,000 | 4,145,183 | 10/01/04 | 04/01/03
03-08-C-01-JAX, Jacksonville, FL | 06/16/06 | 68,357,263 | 73,281,526 | 11/01/08 | 01/01/08
96-03-I-02-SUN, Hailey, ID | 06/19/06 | 566,335 | 558,131 | 06/01/99 | 06/01/99
99-04-C-01-SUN, Hailey, ID | 06/19/06 | 1,085,105 | 950,746 | 04/01/05 | 08/01/04
99-04-C-02-SUN, Hailey, ID | 06/19/06 | 950,746 | 950,746 | 08/01/04 | 08/01/04
98-02-C-01-SBN, South Bend, IN | 06/28/06 | 1,367,991 | 1,387,143 | 06/01/03 | 11/01/02
95-03-C-03-CLE, Cleveland, OH | 06/30/06 | 20,700,642 | 19,945,762 | 02/01/97 | 11/01/96
03-03-C-01-SFO, San Francisco, CA | 07/11/06 | 539,107,697 | 609,107,697 | 11/01/18 | 01/01/17
98-03-C-07-CVG, Covington, KY | 07/24/06 | 24,833,000 | 24,852,000 | 08/01/99 | 08/01/99
92-01-C-10-SJC, San Jose, CA | 07/27/06 | 70,625,368 | 64,670,368 | 07/01/96 | 07/01/96
99-07-C-02-SJC, San Jose, CA | 07/27/06 | 12,950,000 | 12,628,000 | 01/01/02 | 07/01/02
01-11-C-02-SJC, San Jose, CA | 07/27/06 | 118,161,491 | 131,055,103 | 07/01/06 | 01/01/07
*97-01-C-03-SDF, Louisville, KY | 07/31/06 | 90,600,000 | 90,600,000 | 04/01/12 | 09/01/14
01-02-C-04-SDF, Louisville, KY | 07/31/06 | 10,012,140 | 10,012,140 | 03/01/13 | 12/01/16
03-03-C-02-SDF, Louisville, KY | 07/31/06 | 5,666,800 | 5,666,800 | 09/01/13 | 02/01/18
06-04-C-01-SDF, Louisville, KY | 07/31/06 | 1,267,315 | 1,267,315 | 10/01/13 | 05/01/18

Note: The amendment denoted by an asterisk (*) includes a change to the PFC level changed from $3.00 per enplaned passenger to $4.50 per enplaned passenger. For Louisville, KY, this change is effective on October 1, 2006:

Issued in Washington, DC, on September 22, 2006.
Joe Hebert,
Manager, Financial Analysis and Passenger Facility Charge Branch.

[FR Doc. 06-8377 Filed 9-29-06; 8:45 am]

BILLING CODE 4910-13-M